DEPARTMENT OF THE INTERIOR

Fish and Wildlife Service

Draft Comprehensive Conservation Plan and Environmental Assessment for the Great Dismal Swamp National Wildlife Refuge and the Nansemond National Wildlife Refuge

AGENCY: Fish and Wildlife Service, Department of the Interior.

ACTION: Notice of Availability.

SUMMARY: The U.S. Fish and Wildlife Service (Service) announces that the draft Comprehensive Conservation Plan (CCP) and Environmental Assessment (EA) for the Great Dismal Swamp National Wildlife Refuge (NWR) is available for review. The CCP/EA includes Nansemond NWR, an unstaffed refuge managed by the Great Dismal Swamp NWR. The Service prepared this CCP/EA in compliance with the National Environmental Policy Act of 1969, and the National Wildlife Refuge System Administration Act of 1966, as amended by the National Wildlife Refuge System Improvement Act of 1997 (16 U.S.C. 668dd, et seq.).

This notice also advises the public that the Service is withdrawing a previous notice, published in 2002, stating that an Environmental Impact Statement (EIS) would be developed for the refuge complex. After completing the environmental analysis, we determined that an EIS is not warranted.

DATES: The draft CCP/EA will be available for public review and comment for a 30-day period starting with the publication of this notice.

ADDRESSES: Copies of the draft CCP/EA on compact diskette or in print may be obtained by writing or visiting Great Dismal Swamp NWR, 3100 Desert Road, Suffolk, Virginia 23434, or you may download an electronic copy from the http://library.fws.gov/ccps.htm Web site. We plan to host three public meetings in the Cities of Suffolk and Chesapeake, Virginia, and in Camden and Gates Counties in North Carolina. We will announce the details at least 2 weeks in advance in local papers and post them at the refuge.

Comments should be submitted to Deloras Freeman, Great Dismal Swamp NWR, 3100 Desert Road, Suffolk, Virginia 23434, by fax at 757-986-2353, or email at deloras_freeman@fws.gov. Comments via email should include the comments in the body of the email, since email security programs could delete attached files.

FOR FURTHER INFORMATION CONTACT: Deloras Freeman, Great Dismal Swamp NWR at 787-986-3706 or Bill Perry, Refuge Planner, Northeast Regional Office at 413-253-8371.

SUPPLEMENTARY INFORMATION: The National Wildlife Refuge System Administration Act of 1966, as amended by the National Wildlife Refuge System Improvement Act of 1997, requires the Service to develop a CCP for each refuge. The purpose of developing a CCP describes the desired future conditions of the refuge and provides refuge managers with a 15-year strategy for achieving refuge purposes and contributing to the mission of the National Wildlife Refuge System, in conformance with the sound principles of fish and wildlife science, natural resources conservation, legal mandates, and Service policies. In addition to outlining broad management direction on conserving wildlife and habitats, CCPs identify wildlife-dependent recreational opportunities available to the public, including opportunities for hunting, fishing, wildlife observation and photography, and environmental education and interpretation. The Service will review and update each CCP at least once every 15 years, in accordance with the National Wildlife Refuge System Improvement Act of 1997 and the National Environmental Policy Act of 1969.

Established in 1974, Great Dismal Swamp NWR encompasses 111,201 acres, the largest intact remnant of a vast habitat that once covered more than one million acres of southeastern Virginia and northeastern North Carolina. The Nansemond NWR, established December 12, 1973, is an unstaffed satellite refuge encompassing 423 acres.

The draft CCP/EA analyzes three alternatives for managing the refuge over the next 15 years. Alternative A (the “No Action” Alternative) would continue our present management and provides a baseline for comparing and contrasting other alternatives. It continues to focus on restoring hydrology and habitat, maintaining roads, acquiring 4,000 acres of land inside the refuge boundary as it becomes available from willing sellers, restoring 1,000 acres of Atlantic white cedar, and enhancing 2,000 acres of pocosin/pine habitat for reintroduction of red-cockaded woodpeckers. It continues to provide current levels of environmental education and interpretation, boating and fishing on Lake Drummond, and annual deer hunting.

Alternative B (the Service-preferred alternative) directs the refuge toward an optimal level of habitat management and public use based on the vision for the refuge at the time of its establishment in 1974. Alternative B proposes the restoration of 8,000 acres of Atlantic white cedar habitat; the restoration of 10,000 acres of red-cockaded woodpecker habitat; and the restoration of a remnant marsh to its original 250 acres from its present 30 acres. We would establish a neotropical migratory bird focus area near Jericho Lane, in which we would focus habitat management and modeling, population surveys, and education and interpretation related to neotropical migratory bird populations. As a part of our preferred alternative, we have proposed to implement a limited bear hunt. This hunt would occur on a total of 2 days during November and December, with a total maximum of 100 permits issued. We anticipate a harvest of approximately 11 bears with a harvest limit target of 20 bears. If 10 or more bears are taken the first day, various parameters will be evaluated and the second hunt day may be cancelled. As with the deer hunt, dogs will not be allowed as a means to hunt bears. The bear hunt is currently authorized in the code of federal regulations (50 CFR part 32), but has never been implemented.

Our preferred alternative also proposes the following building projects: The development of an environmental education site at Jericho Ditch in Suffolk, Virginia. We will also develop an exhibit to be sited at the downtown visitor center that is run by the City of Suffolk. Additionally, we propose the conversion of the current administrative building for concessions, and the construction of a new visitor center and headquarters between the old and new Route 17 in Chesapeake, Virginia, and the construction of new trails, observation and photography platforms, or towers. The CCP proposes to enhance environmental education and outreach, establish hunter safety and youth hunting programs, and provide interpretative canoe or kayak tours through a concessionaire.

Alternative C (limited habitat management) reduces our emphasis on habitat management compared to current refuge operations, but significantly expands visitor services and public use. It also emphasizes monitoring and researching opportunities.

All three alternatives share some priorities. They manage invasive or exotic species and pine/pocosin habitats. They manage hydrology to slow the rate of surface drainage from the refuge, maintain normal flooding patterns, manage stands of Atlantic white cedar, and conserve water for suppressing fires. Finally, they continue to provide opportunities for compatible public use such as hunting, fishing, environmental education and interpretation, wildlife observation and photography, and off-refuge outreach and partnerships.

A Wilderness Review was also conducted for Great Dismal Swamp NWR as part of this planning process. No areas were recommended for designation because none of the wilderness inventory areas met wilderness criteria.

Dated: February 24, 2006.
Marvin E. Moriarty,
Regional Director, U.S. Fish and Wildlife Service.

[FR Doc. E6-3118 Filed 3-10-06; 8:45 am]

BILLING CODE 4310-55-P